DEPARTMENT OF TRANSPORTATION

Office of the Secretary

14 CFR Parts 11, 300, and 302

49 CFR Parts 1, 5, 7, 106, 211, 389, 553, and 601

RIN 2105-AE84

Administrative Rulemaking, Guidance, and Enforcement Procedures

Correction

In rule document 2019-26672, appearing on pages 71714 through 71734, in the issue of Friday, December 27, 2019 make the following corrections:

1. Correction document C1-2019-26672 published by the Office of the Federal Register, appearing on page 1747, in the issue of Monday, January 13, 2020 was incorrect and is withdrawn.

§ 5.23 [Corrected]

2. On page 71726, in the second column, in the third paragraph, on the second line from the bottom, “its ⁸ officers” should read “its officers”.

3. On the same page, in the same column, in the footnotes, footnote 8 should be removed.

[FR Doc. C2-2019-26672 Filed 1-17-20; 8:45 am]

BILLING CODE 1301-00-D